DEPARTMENT OF TRANSPORTATION

Federal Aviation Administration

First Meeting: RTCA Special Committee 234, Portable Electronic Devices (PEDs)

AGENCY: Federal Aviation Administration (FAA), U.S. Department of Transportation (DOT).

ACTION: Meeting notice of RTCA Special Committee 234, Portable Electronic Devices (PEDs).

SUMMARY: The FAA is issuing this notice to advise the public of the first meeting of the RTCA Special Committee 234, Portable Electronic Devices (PEDs).

DATES: The meeting will be held May 6th to 7th, 2015 from 9:00 a.m.-5:00 p.m.

ADDRESSES: RTCA Inc., 1150 18th Street NW., Suite 910, Washington, DC 200036.

FOR FURTHER INFORMATION CONTACT: The RTCA Secretariat, 1150 18th Street NW., Suite 910, Washington, DC 20036, or by telephone at (202) 330-0652/(202) 833-9339, fax at (202) 833-9434, or Web site at http://www.rtca.org. Additional contact information: RTCA contact is Karan Hofmann, khofmann@rtca.org, (202) 330-0680.

SUPPLEMENTARY INFORMATION: Pursuant to section 10(a)(2) of the Federal Advisory Committee Act (Pub. L. 92-463, 5 U.S.C., App.), notice is hereby given for a meeting of Special Committee 234. The agenda will include the following:

Wednesday May 6th

• Welcome

• Administrative Remarks

• Introductions

• Agenda Review

• RTCA Overview Presentation

• SC-234 Scope and Terms of Reference review

• WG-99 Progress Presentation

• Presentation on PED ARC Outcome

• SC-234/WG-99 Structure and Organization of Work

• Proposed Schedule

• RTCA workspace presentation

• Other Business

• Date and Place of Next Meeting

• Adjourn

Thursday, May 7th

• Continuation of Plenary or Working Group Session

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on March 27, 2015.
Mohannad Dawoud,
Management Analyst, NextGen, Program Oversight and Administration, Federal Aviation Administration.

[FR Doc. 2015-07511 Filed 3-31-15; 8:45 am]

BILLING CODE 4910-13-P